NUCLEAR REGULATORY COMMISSION

[Docket No. 50-382; NRC-2012-0212]

Wolf Creek Nuclear Operating Corporation, Wolf Creek Generating Station; Application for Amendment to Facility Operating License

AGENCY: Nuclear Regulatory Commission.

ACTION: License amendment application; withdrawal.

ADDRESSES: Please refer to Docket ID NRC-2012-0212 when contacting the NRC about the availability of information regarding this document. You may access information related to this document, which the NRC possesses and are publicly available, using any of the following methods:

• Federal Rulemaking Web Site: Go to http://www.regulations.gov and search for Docket ID NRC-2012-0212. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Brian J. Benney, Senior Project Manager, Plant Licensing Branch IV, Division of Operating Reactor Licensing, Office of Nuclear Reactor Regulation, U.S. Nuclear Regulatory Commission, Washington, DC 20555; telephone: 301-415-2767; email: brian.benney@nrc.gov.

SUPPLEMENTARY INFORMATION: The U.S. Nuclear Regulatory Commission (NRC or the Commission) has granted the request of Wolf Creek Nuclear Operating Corporation (the licensee) to withdraw its application dated November 4, 2010 (ADAMS Accession No. ML103200209), as supplemented by letters dated October 19, 2011 (ADAMS Accession No. ML11312A137), and January 31, 2012 (ADAMS Accession No. ML12039A091), for proposed amendment to Facility Operating License No. NPF-42 for the Wolf Creek Generating Station, located in Coffey County, Kansas.

The proposed amendment would have revised Technical Specification (TS) 5.6.5, “CORE OPERATING LIMITS REPORT (COLR),” to replace the existing large break loss-of-coolant accident (LOCA) analysis methodology. Specifically, the proposed change adds a reference to WCAP-16009-P-A, “Realistic Large Break LOCA Evaluation Methodology Using Automated Statistical Treatment of Uncertainty Method (ASTRUM),” to TS 5.6.5b.

The Commission had previously issued a Notice of Consideration of Issuance of Amendment published in the Federal Register on December 28, 2010 (75 FR 81673). However, by letter dated August 23, 2012 (ADAMS Accession No. ML12248A261), the licensee withdrew the proposed change.

For further details with respect to this action, see the application for amendment dated November 4, 2010, as supplemented by letters dated October 19, 2011, and January 31, 2012, and the licensee's letter dated August 23, 2012, which withdrew the application for license amendment.

Dated at Rockville, Maryland, this 5th day of September 2012.
For the Nuclear Regulatory Commission.
Brian J. Benney,
Senior Project Manager, Plant Licensing Branch IV, Division of Operating Reactor Licensing, Office of Nuclear Reactor Regulation.

[FR Doc. 2012-22442 Filed 9-11-12; 8:45 am]

BILLING CODE 7590-01-P